DEPARTMENT OF COMMERCE

National Oceanic and Atmospheric Administration

RIN 0648-XA247

Caribbean Fishery Management Council; Public Meeting

AGENCY: National Marine Fisheries Service (NMFS), National Oceanic and Atmospheric Administration (NOAA), Commerce.

ACTION: Notice of public meeting.

SUMMARY: The Caribbean Fishery Management Council's (Council) Scientific and Statistical Committee (SSC) will hold a meeting.

DATES: The SSC meeting will be held on March 15-16, 2011.

ADDRESSES: The meeting will be held at the Doubletree Hotel at Gallery Plaza (former Pierre Hotel), De Diego Avenue, Santurce, Puerto Rico.

FOR FURTHER INFORMATION CONTACT: Caribbean Fishery Management Council, 268 Muñoz Rivera Avenue, Suite 1108, San Juan, Puerto Rico 00918-1920; telephone: (787) 766-5926.

SUPPLEMENTARY INFORMATION: The SSC will meet to discuss the items contained in the following agenda:

• Call to order.

• Queen Conch.

Update on status of queen conch in the USVI and PR.

• ACL 2011 Amendment.

Presentation/review of requirements to establish ACLs for species, which are not overfished or undergoing overfishing (ACL II) and species/species groups under consideration.

Species that need ACLs in 2011:

1. Reef Fish FMP.

2. Coral FMP.

3. Spiny Lobster FMP.

4. Queen Conch FMP.

• Issues:

1. Reporting.

2. unclassified (reef fish and queen conch).

3. list of species not included in Options Paper but included in FMPs.

4. Proposed ACLs with accompanying data.

5. Ornamental Species.

• Discussion and recommendations by SSC.

1. Species/species unit recommendations based on data, species life history, etc.

2. Indicator species recommendations for units with more than one species.

3. ACL recommendations.

• Update on Aquarium Trade.

• Review D. Olsen letter—MRAG study versus catch intercepts reporting—Validation of catch data. Discussion regarding data gathering regarding Virgin Islands commercial fishery.

• Update of St. Croix Independent Fishery Trap Survey.

• Update on status of data from PR and USVI, including issues that need to be addressed to obtain more timely data.

• Status of the implementation of MRIP in PR and plans for implementation in USVI.

• Review of specific research directed to ACLs and recommendations by SSC of type of research that should be given priority to provide information for establishing ACLs.

Essential Fish Habitat

EFH 5-year-revision document.

Discussion and Final recommendation to the CFMC SEDAR 26: Silk and queen snapper, red tail parrotfish.

Commitment to the workshops and time (Data-Assessment-Review) Other Business.

The SSC will convene on March 15, 2011, from 9 a.m. until 5 p.m., and will reconvene on March 16, 2011, from 9 a.m. until 5 p.m. The meeting is open to the public, and will be conducted in English.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. For more information or request for sign language interpretation and/other auxiliary aids, please contact Mr. Miguel A. Rolón, Executive Director, Caribbean Fishery Management Council, 268 Muñoz Rivera Avenue, Suite 1108, San Juan, Puerto Rico 00918-1920, telephone: (787) 766-5926, at least 5 days prior to the meeting date.

Dated: February 22, 2011.
Tracey L. Thompson,
Acting Director, Office of Sustainable Fisheries, National Marine Fisheries Service.

[FR Doc. 2011-4284 Filed 2-24-11; 8:45 am]

BILLING CODE 3510-22-P